DEPARTMENT OF HEALTH AND HUMAN SERVICES

Food and Drug Administration

21 CFR Parts 556 and 558

[Docket No. FDA-2014-N-0002]

Zoetis Inc., et al.; Withdrawal of Approval of New Animal Drug Applications for Combination Drug Medicated Feeds Containing an Arsenical Drug; Correction

AGENCY: Food and Drug Administration, HHS.

ACTION: Notification of withdrawal of approval; correction.

SUMMARY: The Food and Drug Administration (FDA) published a document in the Federal Register of February 27, 2014, concerning the voluntary withdrawal of approval of new animal drug applications (NADAs). The document contained an incorrect list of NADAs.

DATES: This correction is effective April 7, 2014.

FOR FURTHER INFORMATION CONTACT: George K. Haibel, Center for Veterinary Medicine (HFV-6), Food and Drug Administration, 7519 Standish Pl., Rockville, MD 20855, 240-276-9019, George.haibel@fda.hhs.gov.

SUPPLEMENTARY INFORMATION: In FR Doc. 2014-02616, appearing on page 10974 in the Federal Register of February 27, 2014, the following corrections are made:

On page 10974, in the third column, in the 2d line of the “SUMMARY” section remove “69” and add in its place “68”.

On page 10975, the first bulleted text “Huvepharma AD, 5th Floor, 3A Nikolay Haitov Str., 1113 Sofia, Bulgaria has requested that FDA withdraw approval of the following 16 NADAs and 8 ANADAs” is corrected to read “Huvepharma AD, 5th Floor, 3A Nikolay Haitov Str., 1113 Sofia, Bulgaria, has requested that FDA withdraw approval of the following 15 NADAs and 8 ANADAs”; and on the same page in the table, the entry “013-461 3-NITRO (roxarsone)/AMPROL Plus (amprolium and ethopabate).” is removed.

Dated: April 2, 2014.
Bernadette Dunham,
Director, Center for Veterinary Medicine.

[FR Doc. 2014-07702 Filed 4-4-14; 8:45 am]

BILLING CODE 4160-01-P